DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed revisions and three-year extension to the following Petroleum Supply Forms:

EIA-800, “Weekly Refinery Report,”

EIA-801, “Weekly Bulk Terminal Report,”

EIA-802, “Weekly Product Pipeline Report,”

EIA-803, “Weekly Crude Oil Stocks Report,”

EIA-804, “Weekly Imports Report,”

EIA-810, “Monthly Refinery Report,”

EIA-811, “Monthly Bulk Terminal Report,”

EIA-812, “Monthly Product Pipeline Report,”

EIA-813, “Monthly Crude Oil Report,”

EIA-814, “Monthly Imports Report,”

EIA-816, “Monthly Natural Gas Liquids Report,”

EIA-817, “Monthly Tanker and Barge Movement Report,”

EIA-819M, “Monthly Oxygenate Telephone Report,” and

EIA-820, “Annual Refinery Report.”

DATES: Comments must be filed by July 22, 2003. If you anticipate difficulty in submitting comments within that period, contact the person listed below as soon as possible.

ADDRESSES: Send comments to Stefanie Palumbo, Petroleum Division. To ensure receipt of the comments by the due date, submission by FAX (202-586-5846) or e-mail (stefanie.palumbo@eia.doe.gov) is recommended. The mailing address is Petroleum Division, EI-42, Forrestal Building, U.S. Department of Energy, 1000 Independence Ave., SW., Washington, DC 20585. Alternatively, Stefanie Palumbo may be contacted by telephone at (202) 586-6866.

FOR FURTHER INFORMATION CONTACT: Requests for additional information or copies of any forms and instructions should be directed to Stefanie Palumbo at the address listed above. The proposed forms and changes in definitions and instructions are also available on the Internet at http://www.eia.doe.gov/oil_gas/petroleum/survey_forms/pet_proposed_forms.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The weekly petroleum supply surveys (Forms EIA-800, EIA-801, EIA-802, EIA-803, and EIA-804) are designed to highlight information on petroleum refinery operations, inventory levels, and imports of selected petroleum products in a more timely manner. The information appears in the publications listed below and is also available electronically through the Internet at http://www.eia.doe.gov/.

Publications: Internet only publications are the Weekly Petroleum Status Report, Petroleum Supply Monthly, Short-Term Energy Outlook, and This Week in Petroleum. Hardcopy and internet publications are the Monthly Energy Review (DOE/EIA-0035) and the Annual Energy Outlook (DOE/EIA-0383).

The monthly petroleum supply surveys (Forms EIA-810, EIA-811, EIA-812, EIA-813, EIA-814, EIA-816, EIA-817 and EIA-819M) are designed to provide statistically reliable and comprehensive information not available from other sources to EIA, other Federal agencies, and the private sector for use in forecasting, policy making, planning, and analysis activities. The information appears in the publications listed below and is also available electronically through the Internet at http://www.eia.doe.gov/.

Publications: Internet only publications are the Weekly Petroleum Status Report, Petroleum Supply Monthly, and Short-Term Energy Outlook. Hardcopy and internet publications are the Petroleum Supply Annual (DOE/EIA-0340), the Monthly Energy Review (DOE/EIA-0035), the Annual Energy Review (DOE/EIA-0384), and the Annual Energy Outlook (DOE/EIA-0383).

The annual petroleum supply survey (Form EIA-820) provides data on the operations of all operating and idle petroleum refineries (including new refineries under construction), blending plants, refineries shutdown with useable storage capacity, and refineries shutdown during the previous year. The information appears in the Petroleum Supply Annual (DOE/EIA-0340) and is also available electronically through the Internet at http://www.eia.doe.gov/.

II. Current Actions

The EIA will request a 3-year extension of the collection approval for each of the above-referenced surveys. The Form EIA-807, “Propane Telephone Report,” will be eliminated. Additionally, as a means of improving its petroleum supply surveys to reflect the changing regulations and industry, the EIA proposes the following changes for the 2004 collection period.

Items Eliminated on All Surveys

• Naphtha jet fuel (will be reported in the miscellaneous products category).

• Oxygenated gasoline category.

Modifications to the Form EIA-819, “Monthly Oxygenate Report”

• Change the number of the Form EIA-819M to Form EIA-819.

• Change filing and publication dates for monthly oxygenate data to match petroleum supply surveys.

—Change filing date from 7 working days after the end of each report month to 20 calendar days after the end of each report month.

—Change the publication date from 15 working days after the end of each report month to approximately 52 days after the end of each report month.

• Eliminate reporting by bulk terminals and pipeline operators (will be collected on EIA-811 and EIA-812).

• Eliminate reporting of stocks by captive Methyl Tertiary Butyl Ether (MTBE) plants (will be collected on Form EIA-810).

• Collect motor gasoline blending component production as follows:

—Alkylate

—Isooctane

—Isobutylene

—Other

• Collect MTBE merchant and captive plant production. “All other oxygenates” production and stocks will now include tertiary amyl methyl ether (TAME) and tertiary butyl alcohol (TBA). TAME and TBA will be eliminated as separate categories.

• Eliminate methanol.

Modifications to the Form EIA-820, “Annual Refinery Report”

• Change “other finished” to “conventional” storage capacity.

• Add storage capacity for “other oxygenates.”

• Add new categories for catalytic hydrocracking capacity by type of feed:

—Distillate

—Gas Oil

—Residual

• Change capacity name from “Catalytic Hydrotreating” to “Desulfurization” and add categories:

—Gasoline

—Kerosene and Jet

—Diesel Fuel

—Other Distillate

—Residual

—Other

• Modify product detail for distillate storage capacity:

—15 parts per million (ppm) and under

—Greater than 15 ppm to 500 ppm, inclusive

—Greater than 500 ppm

Unfinished Oils

• Open up the “inputs” and “production” columns on the EIA-810, “Monthly Refinery Report” for the four splits of unfinished oils.

Propane/Propylene

• Eliminate the Form EIA-807, “Propane Telephone Survey.”

• Add propane/propylene to the weekly surveys (EIA-800, 801, 802, and 804).

• Add non-fuel propylene to the weekly bulk terminal survey (EIA-801).

• Add non-fuel propylene, ethylene, and refinery grade butane as sub-elements on the EIA-811.

Motor Gasoline

• Add new surveys EIA-805, “Weekly Terminal Blenders Report” and EIA-815, “Monthly Terminal Blenders Report,” to collect motor gasoline and motor gasoline blending components inputs and production for weekly and monthly terminal blending.

—Collect total of oxygenates, natural gas plant liquids, and liquefied refinery gases inputs on the EIA-805

—Collect other hydrocarbon, hydrogen, and oxygenate inputs on the EIA-815 as follows:

1. Other hydrocarbons and hydrogen

2. Fuel Ethanol (FE),

3. Ethyl Tertiary Butyl Ether (ETBE),

4. Methyl Tertiary Butyl Ether (MTBE), and

5. All other oxygenates.

—Collect products of natural gas processing (inputs) on the EIA-815 as follows:

1. Normal butane,

2. Isobutane, and

3. Pentanes plus.

• Add the following new categories for motor gasoline on Forms EIA-800, 801, 802, 804, 805, 810, 811, 812, 814, 815, and 817:

—Finished Motor Gasoline

1. Reformulated (blended with ether)

2. Reformulated (blended with alcohol)

3. Reformulated (non-oxygenated)

4. Conventional (blended with alcohol)

5. Conventional (other).

—Motor Gasoline Blending Components:

1. Reformulated Blendstock for Oxygenate Blending (RBOB) for blending with ether

2. Reformulated Blendstock for Oxygenate Blending (RBOB) for blending with alcohol

3. Conventional Blendstock for Oxygenate Blending (CBOB)

4. Gasoline Treated as Blendstock (GTAB)

i. Reformulated

ii. Conventional

iii. All other motor gasoline blending components.

Distillate Fuel Oil

• Add the following new categories for distillate fuel oil on Forms EIA-800, 801, 802, 810, 811, 812, 817, and 820:

—Distillate Fuel Oil—Total

1. 15 ppm sulfur and under

2. Greater than 15 ppm to 500 ppm sulfur, inclusive

3. Greater than 500 ppm sulfur.

• Collect imports (EIA-814) by specific sulfur level.

• For the weekly imports (EIA-804), collect the following categories:

—15 ppm sulfur and under

—Greater than 15 ppm to 500 ppm sulfur, inclusive

—Greater than 500 to 2000 ppm, inclusive

—Greater than 2000 ppm.

• Collect volumes of ultra-low sulfur distillate fuel oil (15 ppm and under) downgraded at bulk terminals and pipelines on Forms EIA-801, 802, 811, and 812.

There are no proposed changes to the Form EIA-803 (Weekly Crude Oil Stocks Report) or the Form EIA-813 (Monthly Crude Oil Report).

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burdens for the forms are estimated to average:

Estimated Hours Per Response in 2004 With Changes (Current 2003 Hours Per Response)

EIA-800, “Weekly Refinery and Fractionator Report,”—1.58 hours (1.12 hours)

EIA-801, “Weekly Bulk Terminal Report,”—0.95 hours (0.72 hours)

EIA-802, “Weekly Product Pipeline Report,”—0.95 hours (0.69 hours)

EIA-803, “Weekly Crude Oil Stocks Report,”—0.50 hours (0.45 hours)

EIA-804, “Weekly Imports Report,”—1.58 hours (1.22 hours)

EIA-805, “Weekly Terminal Blenders Report,”—0.58 hours (new form)

EIA-810, “Monthly Refinery Report,”—4.74 hours (3.31 hours)

EIA-811, “Monthly Bulk Terminal Report,”—2.21 hours (1.70 hours)

EIA-812, “Monthly Product Pipeline Report,”—2.85 hours (2.09 hours)

EIA-813, “Monthly Crude Oil Report,”—1.50 hours (1.37 hours)

EIA-814, “Monthly Imports Report,”—2.53 hours (1.93 hours)

EIA-815, “Monthly Terminal Blenders Report,”—1.15 hours (new form)

EIA-816, “Monthly Natural Gas Liquids Report,”—0.95 hours (0.78 hours)

EIA-817, “Monthly Tanker and Barge Movement Report,”—2.21 hours (1.62 hours)

EIA-819, “Monthly Oxygenate Telephone Report,”—0.63 hours (0.50 hours)

EIA-820, “Annual Refinery Report”—2.30 hours (2.00 hours)

The estimated burdens include the total time necessary to provide the requested information. In your opinion, how accurate are the estimates?

The agency estimates that the only cost to a respondent is for the time it will take to complete the collection. Will a respondent incur any start-up costs for reporting, or any recurring annual costs for operation, maintenance, and purchase of services associated with the information collection?

E. What additional actions could be taken to minimize the burden of this collection of information? Such actions may involve the use of automated, electronic, mechanical, or other technological collection techniques or other forms of information technology.

F. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. chapter 35).

Issued in Washington, DC, May 16, 2003.
Jay H. Casselberry,
Agency Clearance Officer, Statistics and Methods Group, Energy Information Administration.

[FR Doc. 03-12871 Filed 5-22-03; 8:45 am]

BILLING CODE 6450-01-P